DEPARTMENT OF TRANSPORTATION

Office of the Secretary

Notice of Applications for Certificates of Public Convenience and Necessity and Foreign Air Carrier Permits Filed Under Subpart B (formerly Subpart Q) During the Week Ending February 28, 2014

The following Applications for Certificates of Public Convenience and Necessity and Foreign Air Carrier Permits were filed under Subpart B (formerly Subpart Q) of the Department of Transportation's Procedural Regulations (See 14 CFR 302.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2015-0041.

Date Filed: February 25, 2015.

Due Date for Answers, Conforming Applications, or Motion to Modify Scope: March 18, 2015.

Description: Application of Asia Atlantic Airlines Co. Ltd. requesting an exemption and a foreign air carrier permit authorizing it to engage in charter foreign air transportation of persons, property and mail from any point or points in Thailand to any point or points in the United States, and beyond to the full extent permitted by the Air Transport Agreement of September 19, 2005 between the Government of the United States of America and the Government of the Kingdom of Thailand (the “U.S.—Thailand Agreement”).

Docket Number: DOT-OST-2015-0043.

Date Filed: February 26, 2015.

Due Date for Answers, Conforming Applications, or Motion to Modify Scope: March 19, 2015.

Description: Application of 21 Air, LLC requesting a certificate of public convenience and necessity authorizing it to conduct foreign charter air transportation of property and mail with large aircraft.

Docket Number: DOT-OST-2015-0044.

Date Filed: February 26, 2015.

Due Date for Answers, Conforming Applications, or Motion to Modify Scope: March 19, 2015.

Description: Application of 21 Air, LLC requesting a certificate of public convenience and necessity authorizing it to conduct interstate charter air transportation of property and mail with large aircraft.

Barbara J. Hairston,
Supervisory Dockets Officer, Docket Operations, Federal Register Liaison.

[FR Doc. 2015-06183 Filed 3-17-15; 8:45 am]

BILLING CODE 4910-9X-P